NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 13, 2020. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-023

1. Applicant: Red Rock Films, 625 Sligo Avenue, Silver Spring, MD 20910.

Activity for Which Permit is Requested: Take; Harmful Interference. The applicant proposes to film whales in the Antarctic Peninsula region. The applicant and agents would film from a chartered vessel, using remotely piloted aircraft systems (RPAS), and underwater via pole camera and scuba diving. The filming could result in take or harmful interference (disturbance) of humpback whales, killer whales, minke whales, crabeater seals, Weddell seals, southern elephant seals, Ross seals, Antarctic fur seals, and leopard seals. The applicant would maintain a distance of 30 m between whales or seals and the vessel, the RPAS, and equipment or divers underwater. The maximum number of approaches for a single animal per day would be three and no more than five over the course of two consecutive days. The RPAS would be operated by an qualified and certified pilot with substantial experience including operations filming whales. The vessel operator would also be experienced with operations in proximity to whales.

Location: Gerlache Strait; Antarctic Peninsula region.

Dates of Permitted Activities: January 15-February 28, 2020.

Erika N. Davis,
Program Specialist, Office of Polar Programs.

[FR Doc. 2019-26769 Filed 12-11-19; 8:45 am]

BILLING CODE 7555-01-P